DEPARTMENT OF COMMERCE

National Oceanic and Atmospheric Administration

RIN 0648-XC572

Fisheries of the South Atlantic; South Atlantic Fishery Management Council; Public Meetings

AGENCY: National Marine Fisheries Service (NMFS), National Oceanic and Atmospheric Administration (NOAA), Commerce.

ACTION: Meeting and Workshop of the South Atlantic Fishery Management Council (SAFMC) Scientific and Statistical Committee (SSC).

SUMMARY: The SAFMC will hold a meeting of its SSC along with a workshop to consider modifications to the Acceptable Biological Catch (ABC) control rule. See SUPPLEMENTARY INFORMATION.

DATES: The SSC Workshop will be held from 1 p.m., Monday, April 8, 2013 until 3 p.m., Tuesday April 9, 2013. The SSC Meeting will be held from 3 p.m. Tuesday, April 9, 2013 until 3 p.m., Thursday, April 11, 2013.

ADDRESSES: Meeting address: The meeting and workshop will be held at the Crowne Plaza Airport Hotel, 4831 Tanger Outlet Boulevard, North Charleston, SC 29418; telephone: (800) 503-5762 or (843) 744-4422; fax: (843) 744-4472.

Council address: South Atlantic Fishery Management Council, 4055 Faber Place Drive, Suite 201, N. Charleston, SC 29405.

FOR FURTHER INFORMATION CONTACT: Kim Iverson, Public Information Officer, 4055 Faber Place Drive, Suite 201, North Charleston, SC 29405; telephone: (843) 571-4366 or toll free (866) SAFMC-10; fax: (843) 769-4520; email: kim.iverson@safmc.net.

SUPPLEMENTARY INFORMATION: The items of discussion in the individual meeting agendas are as follows:

SSC Workshop Agenda, Monday, April 8, 2013, 1 p.m. Until Tuesday, April 9, 2013, 3 p.m.

1. Discuss the ABC control rule, with emphasis on methods for deriving ABC recommendations for stocks that have reliable catch data only.

2. Review catch and biological data for unassessed stocks and recommend modifications to the ABC control rule in order to improve the use of such information when providing ABC recommendations.

SSC Meeting, Tuesday, April 9, 2013, 3 p.m. Until Thursday, April 11, 2013, 3 p.m.

1. Discuss stock assessments of black sea bass, cobia, and Spanish mackerel.

2. Discuss Fishery Management Plan (FMP) amendments that are under development for corals and snapper grouper species.

3. Review Council research priorities.

4. Discuss the SAFMC ABC control rule and ABC recommendations for unassessed stocks.

5. Discuss the stock assessment peer review processes.

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the intent to take final action to address the emergency.

Special Accommodations

These meetings are accessible to people with disabilities. Requests for auxiliary aids should be directed to the SAFMC office (see ADDRESSES) at least 10 business days prior to the meeting.

Note: The times and sequence specified in this agenda are subject to change.

Dated: March 13, 2013.
Tracey L. Thompson,
Acting Deputy Director, Office of Sustainable Fisheries, National Marine Fisheries Service.

[FR Doc. 2013-06180 Filed 3-15-13; 8:45 am]

BILLING CODE 3510-22-P